DEPARTMENT OF HOMELAND SECURITY

Coast Guard

33 CFR Part 117

[USCG-2008-0069]

Drawbridge Operation Regulation; Gulf Intracoastal Waterway (Algiers Alternate Route), Belle Chasse, LA

AGENCY: Coast Guard, DHS.

ACTION: Notice of temporary deviation from regulations; request for comments.

SUMMARY: The Commander, Eighth Coast Guard District, has issued a temporary deviation from the regulation governing the operation of the SR 23 bridge across the Gulf Intracoastal Waterway (Algiers Alternate Route), mile 3.8, at Belle Chasse, Plaquemines Parish, Louisiana. This deviation will test a change to the drawbridge operation schedule to determine whether a permanent change to the schedule is needed. This test deviation will allow the draw to open on signal; except that, the draw need not be opened for the passage of vessels from 6 a.m. to 8:30 a.m. and from 3:30 p.m. to 7 p.m. Monday through Friday, except Federal holidays.

DATES: This deviation is effective from April 10, 2009 until May 11, 2009.

ADDRESSES: You may submit comments identified by Coast Guard docket number USCG-2008-0069 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this proposed rule, call David Frank, Bridge Administration Branch, telephone (504) 671-2128. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

Submitting Comments

If you submit a comment, please include the docket number for this rulemaking USCG-2008-0069, indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 81/2 by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov at any time, click on “Search for Dockets,” and enter the docket number for this rulemaking USCG-2008-0069 in the Docket ID box, and click enter. You may also visit the Docket Management Facility in Room W12-140 on the ground floor of the DOT West Building, 1200 New Jersey Avenue, SE., Washington, DC 20590, between 9 a.m. and 5 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Background and Purpose

Plaquemines Parish has requested that a regulation regarding the operation of the SR 23 bridge across the Gulf Intracoastal Waterway (Algiers Alternate Route), mile 3.8, at Belle Chasse, Plaquemines Parish, Louisiana to allow for the bridge to remain in the closed-to-navigation for an additional 90 minutes in the afternoon to facilitate the movement of vehicular traffic. Presently, the draw need not open for the passage of vessels in the afternoon from 3:30 p.m. until 5:30 p.m. The request from Plaquemines Parish is to add an additional 90 minutes to the closure in the afternoon so that the draw need not open for the passage of vessels from 3:30 p.m. until 7 p.m. The Louisiana Department of Transportation and Development has reviewed their bridge tender logs and have estimated that the change in the schedule affects an average of two vessels. It should be noted that the vertical clearance of the bridge in the closed-to-navigation position is 40 feet above mean high water in the closed-to-navigation position so only vessels with vertical clearance requirements of more than 40 feet will be affected by the proposed change.

This bridge currently opens on signal; except that, from 6 a.m. to 8:30 a.m. and from 3:30 p.m. to 5:30 p.m. Monday through Friday, except Federal holidays, the draw need not be opened for the passage of vessels. Plaquemines Parish has requested that the bridge remain closed an additional 90 minutes in the afternoon, until 7 p.m. in the evening to minimize the delays to traffic caused by the opening of the bridge. A recent traffic study indicates that between 1500 and 2000 vehicles per hour cross the bridge during weekday afternoons. When the bridge opens for the passage of a vessel at 5:30 p.m., traffic may back up for more than two miles. As SR 23 is the main highway into and out of Plaquemines Parish, the traffic backup severely hampers the ability of emergency responders to transit in the area. Plaquemines Parish Office of Emergency Management has indicated that the increase in times in the afternoon will allow for most of the traffic to clear out of the area. They believe that the request will only cause a minor increase in delays for vessels wishing to use the area. An alternate route via the Harvey Canal is available for vessels with vertical clearances of greater than 40 feet if they do not wish to be delayed.

During this test deviation, a count of the delayed vessels during the closure periods will be taken to ensure a future regulation will not have a significant impact on navigation. This test deviation has been coordinated with the main commercial waterway user group that has vessels transiting in this area, and currently there is no expectation of any significant impacts on navigation.

The deviation period will be from April 10, 2009 until May 11, 2009, and the operating schedule is, the draw shall open on signal; except that, the draw need not be opened from 6 a.m. to 8:30 a.m., and from 3:30 p.m. to 7 p.m., Monday through Friday except Federal holidays.

A Notice of Proposed Rule Making, USCG-2008-1158, is being issued in conjunction with this Temporary Deviation to obtain public comments. The Notice of Proposed Rule Making will be in effect for two months from March 26, 2009 until May 26, 2009. The Coast Guard will evaluate public comments from this Temporary Deviation and the above referenced Notice of Proposed Rule Making to determine if a permanent change to the drawbridge operating regulation at 33 CFR 117.451(b) is warranted.

In accordance with 33 CFR 117.35(e), the drawbridge must return to its regular operating schedule immediately at the end of the designated time period. This deviation from the operating regulations is authorized under 33 CFR 117.35.

Dated: March 9, 2009.
David M. Frank,
Bridge Administrator.

[FR Doc. E9-6689 Filed 3-25-09; 8:45 am]

BILLING CODE 4910-15-P